ENVIRONMENTAL PROTECTION AGENCY

40 CFR Parts 141, 142 and 143

[FRL-7652-8]

Lead and Copper Rule; Expert Panel Workshops on Simultaneous Compliance and Monitoring Protocols

AGENCY: Environmental Protection Agency.

ACTION: Notice of public meetings.

SUMMARY: The U.S. Environmental Protection Agency (EPA) is convening two expert panel workshops to discuss issues associated with the Lead and Copper Rule (LCR). The first of these workshops, Simultaneous Compliance and the Lead and Copper Rule, will discuss how utilities manage treatment decisions to ensure simultaneous compliance with the LCR and National Primary Drinking Water Regulations. The second workshop, LCR Monitoring Protocols, will examine and discuss potential issues associated with the current LCR sampling and monitoring requirements for lead, copper, and water quality parameters.

DATES: The first workshop, Simultaneous Compliance and the Lead and Copper Rule, will be held on Tuesday, May 11, 2004, 8 a.m. to 5 p.m. (CDT) and Wednesday, May 12, 2004, 8 a.m. to 12 p.m. (CDT). The second workshop, LCR Monitoring Protocols, will be held Wednesday, May 12, 2004, 1 p.m. to 5 p.m. (CDT) and Thursday, May 13, 2004, 8 a.m. to 5 p.m. (CDT).

ADDRESSES: The workshops will be held at the St. Louis Airport Marriott, I-70 at Lambert Airport, St. Louis, MO 63134.

FOR FURTHER INFORMATION CONTACT: To attend this workshop as an observer, please contact the Safe Drinking Water Hotline at 1-800-426-4791 or 703-285-1093 between 9 a.m. and 5:30 p.m. (EDT) or by e-mail: hotline-sdwa@epa.gov. There is no charge for attending this workshop as an observer, but seats are limited, so register as soon as possible. Any person needing special accommodations at any of these meetings, including wheelchair access, should make this known at the time of registration. For administrative meeting information, call Brian Murphy, Economic and Engineering Services, Inc., at 425-452-8100 or by e-mail Murphy@ees-1.com. For technical information, contact Patricia Moe, Office of Water, Office of Ground Water and Drinking Water, U.S. EPA, 1200 Pennsylvania Ave., NW., (MC 4607M), Washington, D.C., 20460 at 202-564-1436 or by e-mail at moe.patricia@epa.gov.

SUPPLEMENTARY INFORMATION: Members of the public may attend as observers at the workshop and provide comments during 30-minute periods each on Tuesday, Wednesday, and Thursday. Individual comments should be limited to no more than 5 minutes.

Dated: April 19, 2004.
Cynthia C. Dougherty,
Director, Office of Ground Water and Drinking Water.

[FR Doc. 04-9265 Filed 4-22-04; 8:45 am]

BILLING CODE 6560-50-P